NATIONAL COUNCIL ON DISABILITY

International Watch Advisory Committee Meetings (Conference Calls)

AGENCY: National Council on Disability (NCD).

Pursuant to the Federal Advisory Committee Act, Public Law 92-463, NCD gives notice that the International Watch Advisory Committee will hold meetings on the dates and times noted below. The Committee will meet by conference call. All meetings are open to the public.

Time and Dates: 12 noon, Eastern Time

November 1, 2007, January 3, 2008, March 6, 2008, May 1, 2008, July 3, 2008, September 4, 2008.

Place: National Council on Disability, 1331 F Street, NW., Suite 850, Washington, DC.

Status: All parts of these conference calls will be open to the public. Those interested in participating on conference calls should contact the appropriate staff member listed below. Due to limited resources, only a few telephone lines will be available for each conference call.

Agendas: Roll call, announcements, overview of accomplishments, planning, reports, updates, new business, adjournment.

FOR FURTHER INFORMATION CONTACT: Joan M. Durocher, Senior Attorney Advisor and Designated Federal Official, National Council on Disability, 1331 F Street, NW., Suite 850, Washington, DC 20004; 202-272-2004 (voice), 202-272-2074 (TTY), 202-272-2022 (fax), jdurocher@ncd.gov (e-mail).

Accommodations: Those needing reasonable accommodations should notify NCD at least two weeks before this meeting.

International Watch Advisory Committee Mission: The purpose of NCD's International Watch is to share information on international disability issues and to advise NCD on developing policy proposals that will advocate for a foreign policy that is consistent with the values and goals of the Americans with Disabilities Act.

Dated: September 12, 2007.
Michael C. Collins,
Executive Director.

[FR Doc. E7-18889 Filed 9-24-07; 8:45 am]

BILLING CODE 6820-MA-P